DEPARTMENT OF THE INTERIOR

Fish and Wildlife Service

[FWS-R6-ES-2014-N005; FXES11130600000-145-FF06E00000]

Endangered and Threatened Wildlife and Plants; Final Revised Recovery Plan for the Pallid Sturgeon

AGENCY: Fish and Wildlife Service, Interior.

ACTION: Notice of document availability.

SUMMARY: The U.S. Fish and Wildlife Service (Service) announces the availability of a final revised recovery plan for the pallid sturgeon. This fish species is federally listed as endangered under the Endangered Species Act of 1973, as amended (Act).

ADDRESSES: Electronic copies of the recovery plan are available online at http://www.fws.gov/endangered/species/recovery-plans.html. Paper copies of the final revised recovery plan are available by request from the Northern Rockies Fish and Wildlife Conservation Office, U.S. Fish and Wildlife Service, 2900 4th Avenue North, Room 301, Billings, MT 59101; telephone 406-247-7365.

FOR FURTHER INFORMATION CONTACT: Project Leader, at the above address, or telephone 406-247-7365.

SUPPLEMENTARY INFORMATION: The Service announces the availability of a revised recovery plan for the pallid sturgeon (Scaphirhynchus albus).

Background

Recovering an endangered or threatened animal or plant to the point where it is again a secure, sustainable member of its ecosystem is a primary goal of the Service's endangered species program. To help guide the recovery effort, the Service prepares recovery plans for the federally listed species native to the United States where a plan will promote the conservation of the species. Recovery plans describe site-specific actions necessary for the conservation of the species; establish objective, measurable criteria which, when met, would result in a determination that the species no longer needs the protection of the Act (16 U.S.C. 1531 et seq.); and provide estimates of the time and cost for implementing the needed recovery measures.

The pallid sturgeon (Scaphirhynchus albus), found in the Missouri and Mississippi River basins of the United States, was listed as an endangered species on September 6, 1990 (55 FR 36641). The original pallid sturgeon recovery plan was approved in 1993. The revised recovery plan documents the current understanding of the species life history requirements, identifies threats to the species, includes revised recovery criteria, and describes those actions believed necessary to eventually delist the species.

Authority

The authority for this action is section 4(f) of the Endangered Species Act, 16 U.S.C. 1533(f).

Dated: January 29, 2014.
Matt Hogan,
Regional Director, Mountain-Prairie Region, Denver, CO.

[FR Doc. 2014-04698 Filed 3-3-14; 8:45 am]

BILLING CODE 4310-55-P